DEPARTMENT OF TRANSPORTATION

Federal Aviation Administration

14 CFR Part 39

[Docket No. FAA-2005-20136; Directorate Identifier 2004-NM-185-AD; Amendment 39-14061; AD 2005-08-09]

RIN 2120-AA64

Airworthiness Directives; Boeing Model 747-200B, -200C, -200F, and -400F Series Airplanes

AGENCY: Federal Aviation Administration (FAA), Department of Transportation (DOT).

ACTION: Final rule.

SUMMARY: The FAA is adopting a new airworthiness directive (AD) for certain Boeing Model 747 series airplanes. This AD requires repetitive detailed inspections for cracks in the crease beam and adjacent structure of the fuselage, and related investigative and corrective actions if necessary. This AD is prompted by fatigue cracks found in the crease beam during a follow-on inspection of a previously installed modification. We are issuing this AD to find and fix fatigue cracking of the fuselage frame, which could result in reduced structural integrity of the frame and consequent rapid decompression of the airplane.

DATES: This AD becomes effective May 24, 2005.

The incorporation by reference of a certain publication listed in the AD is approved by the Director of the Federal Register as of May 24, 2005.

ADDRESSES: The service information referenced in this AD may be obtained from Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20136; the directorate identifier for this docket is 2005-NM-185-AD.

FOR FURTHER INFORMATION CONTACT: Nick Kusz, Aerospace Engineer, Airframe Branch, ANM-120S, FAA, Seattle Aircraft Certification Office, 1601 Lind Avenue, SW., Renton, Washington 98055-4056; telephone (425) 917-6432; fax (425) 917-6590.

SUPPLEMENTARY INFORMATION: The FAA proposed to amend 14 CFR Part 39 with an AD for certain Boeing Model 747 series airplanes. That action, published in the Federal Register on January 28, 2005 (70 FR 4048), proposed to require repetitive detailed inspections for cracks in the crease beam and adjacent structure of the fuselage, and related investigative and corrective actions if necessary.

Comments

We provided the public the opportunity to participate in the development of this AD. We have considered the single comment that has been submitted on the proposed AD. The commenter supports the proposed AD.

Conclusion

We have carefully reviewed the available data, including the comment that has been submitted, and determined that air safety and the public interest require adopting the AD as proposed.

Costs of Compliance

There are about 163 airplanes of the affected design in the worldwide fleet. This AD will affect about 30 airplanes of U.S. registry. The inspection will take about 8 work hours per airplane, at an average labor rate of $65 per work hour. Based on these figures, the estimated cost of the inspection for U.S. operators is $15,600, or $520 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-08-09 Boeing: Amendment 39-14061. Docket No. FAA-2005-20136; Directorate Identifier 2004-NM-185-AD.

Effective Date

(a) This AD becomes effective May 24, 2005.

Affected ADs

(b) None.

Applicability

(c) This AD applies to Boeing Model 747-200B, -200C, -200F, and -400F series airplanes, line numbers 604 and subsequent, certificated in any category; as listed in Boeing Alert Service Bulletin 747-53A2504, dated August 19, 2004.

Unsafe Condition

(d) This AD was prompted by fatigue cracks found in the crease beam during a follow-on inspection of a previously installed modification. We are issuing this AD to find and fix fatigue cracking of the fuselage frame, which could result in reduced structural integrity of the frame and consequent rapid decompression of the airplane.

Compliance

(e) You are responsible for having the actions required by this AD performed within the compliance times specified, unless the actions have already been done.

Repetitive Inspections

(f) Accomplish a detailed inspection for cracks in the crease beam and adjacent structure of the fuselage by doing all the applicable actions in accordance with the Accomplishment Instructions of Boeing Alert Service Bulletin 747-53A2504, dated August 19, 2004; at the applicable time specified in paragraph (f)(1) or (f)(2) of this AD. Repeat the inspection thereafter at intervals not to exceed 6,000 flight cycles.

(1) For Groups 1 and 2 airplanes as identified in the service bulletin: Before the accumulation of 10,000 total flight cycles, or within 1,500 flight cycles after the effective date of this AD, whichever is later.

(2) For Groups 3 and 4 airplanes as identified in the service bulletin: Before the accumulation of 14,000 total flight cycles, or within 1,500 flight cycles after the effective date of this AD, whichever is later.

Related Investigative and Corrective Actions

(g) If any crack is found during any inspection required by paragraph (f) of this AD: Before further flight, repair the cracking in accordance with the Accomplishment Instructions of Boeing Alert Service Bulletin 747-53A2504, dated August 19, 2004. If cracking of the crease beam or outer tee chord attachment is found: Before further flight, do a high frequency eddy current inspection for additional cracking, and repair any cracking found, in accordance with the service bulletin. Where the service bulletin specifies contacting the manufacturer for disposition of certain repair conditions, repair before further flight in accordance with a method approved by the Manager, Seattle Aircraft Certification Office (ACO), FAA; or by an Authorized Representative for the Boeing Delegation Option Authorization (DOA) Organization, who has been authorized by the Manager, Seattle ACO, to make those findings. For a repair method to be approved, the repair must meet the certification basis of the airplane, and the approval must specifically refer to this AD.

No Reporting Required

(h) For certain airplanes, the service bulletin referenced in this AD recommends reporting any discrepancies to the manufacturer, but this AD does not include that requirement.

Alternative Methods of Compliance (AMOCs)

(i)(1) The Manager, Seattle ACO, has the authority to approve AMOCs for this AD, if requested in accordance with the procedures found in 14 CFR 39.19.

(2) An AMOC that provides an acceptable level of safety may be used for a repair required by this AD, if it is approved by an Authorized Representative for the Boeing DOA Organization who has been authorized by the Manager, Seattle ACO, to make such findings.

Material Incorporated by Reference

(j) You must use Boeing Alert Service Bulletin 747-53A2504, dated August 19, 2004, to perform the actions that are required by this AD, unless the AD specifies otherwise. The Director of the Federal Register approves the incorporation by reference of this document in accordance with 5 U.S.C. 552(a) and 1 CFR part 51. To get copies of the service information, go to Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on April 11, 2005.
Ali Bahrami,
Manager, Transport Airplane Directorate, Aircraft Certification Service.

[FR Doc. 05-7683 Filed 4-18-05; 8:45 am]

BILLING CODE 4910-13-P